DEPARTMENT OF LABOR

Employment and Training Administration

Comment Request for Information Collection for Internal Fraud and Overpayment Detection and Recovery Activities (OMB Control No. 1205-0187): Extension With Revisions

AGENCY: Employment and Training Administration (ETA), Department of Labor.

ACTION: Notice.

SUMMARY: The Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the Office of Unemployment Insurance's collection of data on a revised form ETA 9000 that provides information about Internal Fraud and Overpayment Detection and Recovery Activities, the approval for which currently expires May 31, 2011.

A copy of the proposed information collection request (ICR) can be obtained by contacting the office listed below in the addressee section of this notice.

DATES: Written comments must be submitted to the office listed in the addressee's section below on or before March 29, 2011.

ADDRESSES: Send comments to Scott Gibbons, U.S. Department of Labor, Employment and Training Administration, Office of Unemployment Insurance, 200 Constitution Avenue, NW., Frances Perkins Bldg. Room S-4231, Washington, DC 20210, telephone number (202) 693-3008 (this is not a toll-free number) or by e-mail: gibbons.scott@dol.gov.

SUPPLEMENTARY INFORMATION:

I. Background

The ETA 9000 is the only data source available on: (1) Instances of internal fraud activities within the Unemployment Insurance (UI) program; and (2) the results of safeguards that have been implemented to deter and detect instances of internal fraud. It categorizes the major areas susceptible to internal (employee) fraud and provides actual and “estimated” workload. The information is used to review Internal Security (IS) operations and obtain information on composite shifting patterns of nationwide activity and effectiveness in the area of internal fraud identification and prevention. It is also used to assess the overall adequacy of Internal Security procedures in states' UI programs.

To streamline UI program reporting in general, ETA proposes to merge a few cells from ETA 9000 into ETA 227. The reason ETA proposes consolidating these two information collections is that the underlying data collected is similar and this revision will reduce state reporting burden.

The ETA 227 contains data on the number of occurrences and amounts of fraud and non-fraud overpayments established, the methods by which overpayments were detected, the amounts and methods by which overpayments were collected, the amounts of overpayments waived and written off, the accounts receivable for overpayments outstanding, and data on criminal/civil actions.

These data are gathered by 53 State Workforce Agencies (SWAs) and reported to the Department of Labor following the end of each calendar quarter. The overall effectiveness of SWAs' UI integrity efforts can be determined by examining and analyzing the data. These data are also used by SWAs as a management tool for effective UI program administration.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond.

III. Current Actions

Type of Review: Extension with revisions.

Title: Internal Fraud and Overpayment Detection and Recovery Activities.

OMB Number: 1205-0187.

Form Number: ETA 227 (name reflects consolidation of cells from ETA 9000 into ETA 227).

Affected Public: State Workforce Agencies.

Total Respondents: 53.

Frequency: Quarterly.

Total Responses: 4 per year per respondent.

Average Estimated Response Time: 15 hours.

Estimated Annual Burden Hours: 3180 hours.

Total Burden Cost (capital/startup): $0.

Total Burden Cost (operating/maintaining): $0.

Comments submitted in response to this comment request will be summarized and/or included in the request for Office of Management and Budget approval of the information collection request; they will also become a matter of public record.

Dated: January 24, 2011.
Jane Oates,
Assistant Secretary, Employment and Training Administration.

[FR Doc. 2011-1850 Filed 1-27-11; 8:45 am]

BILLING CODE 4510-FW-P